Presidential Determination No. 2008-7 of December 14, 2007

Waiver of Reimbursement Under the U.N. Participation Act To Support UNAMID Efforts in Darfur

Memorandum for the Secretary of State

By the authority vested in me as President by the Constitution and the laws of the United States of America, including section 10(d)(1) of the United Nations Participation Act of 1945, as amended (22 U.S.C. 287e-2(d)(1)), I hereby determine that transfer to the United Nations/African Union Mission in Darfur (UNAMID) of camps and other items furnished as assistance for the African Union Mission in Sudan (AMIS) and assistance required to preserve continuity of functions during the immediate transition from AMIS to UNAMID without reimbursement from the United Nations is important to the security interests of the United States.

You are authorized and directed to report this determination to the Congress and to arrange for its publication in the Federal Register.

THE WHITE HOUSE,

Washington, December 14, 2007.

[FR Doc. 08-241

Filed 1-18-08; 8:45 am]

Billing code 4710-10-P